DEPARTMENT OF ENERGY

Federal Energy Regulatory Commission

Combined Notice of Filings

Take notice that the Commission has received the following Natural Gas Pipeline Rate and Refund Report filings:

Filings Instituting Proceedings

Docket Numbers: RP18-463-000.

Applicants: Natural Gas Pipeline Company of America.

Description: § 4(d) Rate Filing: Negotiated Rate Filing—Shell Energy North America (US), L.P. to be effective 4/1/2018.

Filed Date: 2/26/18.

Accession Number: 20180226-5044.

Comments Due: 5 p.m. ET 3/12/18.

Docket Numbers: RP18-464-000.

Applicants: Nautilus Pipeline Company, L.L.C.

Description: § 4(d) Rate Filing: Nautilus LINK Integration Filing to be effective 5/1/2018.

Filed Date: 2/26/18.

Accession Number: 20180226-5077.

Comments Due: 5 p.m. ET 3/12/18.

Docket Numbers: RP18-465-000.

Applicants: Transcontinental Gas Pipe Line Company.

Description: § 4(d) Rate Filing: Negotiated Rates—Cherokee AGL—Replacement Shippers—Mar 2018 to be effective 3/1/2018.

Filed Date: 2/26/18.

Accession Number: 20180226-5164.

Comments Due: 5 p.m. ET 3/12/18.

Docket Numbers: RP18-466-000.

Applicants: Columbia Gulf Transmission, LLC.

Description: 2017 Operational Transactions Report.

Filed Date: 2/26/18.

Accession Number: 20180226-5177.

Comments Due: 5 p.m. ET 3/12/18.

Docket Numbers: RP18-467-000.

Applicants: Columbia Gas Transmission, LLC.

Description: 2017 Operational Transactions Report.

Filed Date: 2/26/18.

Accession Number: 20180226-5178.

Comments Due: 5 p.m. ET 3/12/18.

Docket Numbers: RP18-468-000.

Applicants: Crossroads Pipeline Company.

Description: 2017 Operational Transactions Report.

Filed Date: 2/26/18.

Accession Number: 20180226-5179.

Comments Due: 5 p.m. ET 3/12/18.

Docket Numbers: RP18-469-000.

Applicants: Hardy Storage Company, LLC.

Description: 2017 Operational Transactions Report.

Filed Date: 2/26/18.

Accession Number: 20180226-5180.

Comments Due: 5 p.m. ET 3/12/18.

Docket Numbers: RP18-470-000.

Applicants: Midcontinent Express Pipeline LLC.

Description: Compliance filing Annual Report of Operational Purchases and Sales 2018.

Filed Date: 2/27/18.

Accession Number: 20180227-5023.

Comments Due: 5 p.m. ET 3/12/18.

Docket Numbers: RP18-471-000.

Applicants: Texas Eastern Transmission, LP.

Description: § 4(d) Rate Filing: Negotiated Rates—Chevron Release to ConocoPhillips to be effective 3/1/2018.

Filed Date: 2/27/18.

Accession Number: 20180227-5024.

Comments Due: 5 p.m. ET 3/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2018.
Nathaniel J. Davis, Sr.,
Deputy Secretary.

[FR Doc. 2018-04377 Filed 3-2-18; 8:45 am]

BILLING CODE 6717-01-P